DEPARTMENT OF ENERGY

Federal Energy Regulatory Commission

[Docket OR07-5-000]

ExxonMobil Oil Corporation, Complainant v. Calnev Pipe Line LLC, Kinder Morgan GP Inc., Kinder Morgan Inc., Respondents; Notice of Amended Complaint

October 29, 2007.

Take notice that on October 18, 2007, ExxonMobil Oil Corporation (ExxonMobil) tendered for filing its First Amended Complaint against Calnev Pipe Line LLC, Kinder Morgan GP, Inc., and Kinder Morgan Inc.

ExxonMobil states that copies of the complaint were served on all respondents.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on November 19, 2007.

Kimberly D. Bose,
Secretary.

[FR Doc. E7-21653 Filed 11-2-07; 8:45 am]

BILLING CODE 6717-01-P